DEPARTMENT OF COMMERCE

National Oceanic and Atmospheric Administration

RIN 0648-XA251

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Thursday, March 17, 2011 at 9 a.m.

ADDRESSES: The meeting will be held at the Crowne Plaza, 50 Ferncroft Road, Danvers, MA 01923; telephone: (978) 777-2500; fax: (978) 750-7991.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will meet to develop Framework Adjustment 46 (FW 46) to the Northeast Multispecies Fishery Management Plan, continue the discussion on an accumulation limits amendment, and begin preparations for a review of the first year of sector operations. FW 46 will consider modifying the provisions of the current haddock catch cap for the herring fishery.

The Committee will develop the specific details for three broad management options that were approved by the Council in January, 2011. Once the specific measures are developed, the framework document will be completed and brought to the Council for a decision at the April 2011 Council meeting. The Committee will also discuss possible management measures to protect cod in southern New England. The Committee may also discuss changes to Transboundary Management Guidance Committee operational procedures. The Committee will discuss goals and objectives for an amendment that may consider adopting accumulation limits and/or ownership caps for the multispecies fishery. Committee members will also begin to plan a review of the first year of operations under sectors; that review is anticipated. Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: February 23, 2011.
Tracey L. Thompson,
Acting Director, Office of Sustainable Fisheries, National Marine Fisheries Service.

[FR Doc. 2011-4338 Filed 2-25-11; 8:45 am]

BILLING CODE 3510-22-P